DEPARTMENT OF EDUCATION

[CFDA No.: 84.351C]

Office of Innovation and Improvement—Professional Development for Arts Educators; Notice Inviting Applications for New Awards for Fiscal Year (FY) 2003

Purpose of Program: This program is authorized under Subpart 15 of Part D of Title V of the Elementary and Secondary Education Act (ESEA), as amended by Public Law 107-110, the No Child Left Behind Act of 2001. Through this competition, the Secretary will make grants to eligible entities for the implementation of high-quality professional development programs in elementary and secondary education. This program will fund model professional development programs for music, dance, drama, and visual arts educators that use innovative instructional methods, especially those linked to scientifically-based research.

The Professional Development for Arts Educators Program provides resources that LEAs can use in pursuit of the objectives of the No Child Left Behind Act which aims for all elementary and secondary students to achieve high standards. In particular, this program provides an opportunity for eligible entities to create new programs in schools identified for improvement, corrective action, or restructuring under Title I, Part A of the ESEA.

Eligible Applicants: A local educational agency (LEA), including charter schools that are considered LEAs under State law and regulations, acting on behalf of an individual school or schools where 75 percent or more of the children are from low-income families, based on the poverty criteria described in Title I, Section 1113(a)(5) of the ESEA, in collaboration with at least one of the following: (1) An institution of higher education; (2) a State educational agency; or (3) a public or private non-profit agency with a history of providing high-quality professional development services to public schools. Only schools where 75 percent or more of the children served are from low-income families may receive services under this program. Each school served through this program must submit evidence that it meets the poverty criteria. Applicants may submit records kept for the purpose of Title I of the ESEA that demonstrate proof of eligibility for each school to be served.

Note: The LEA must serve as the fiscal agent for the program.

Applications Available: 5-16-03.

Notification of Intent to Apply for Funding: The Department will be able to develop a more efficient process for reviewing grant applications if it has a better understanding of the number of entities that intend to apply for funding under this competition. Therefore, the Secretary strongly encourages each potential applicant to notify the Department by e-mail that it intends to submit an application for funding. The Secretary requests that this e-mail notification be sent no later than June 16, 2003 to the following Internet address: lynyetta.johnson@ed.gov.

Applicants that fail to provide this e-mail notification may still apply for funding.

Deadline for Transmittal of Applications: 7-10-03.

Deadline for Intergovernmental Review: 9-8-03.

Available Funds: Approximately $4.4 million.

Estimated Range of Awards: $250,000—$325,000.

Estimated Average Size of Awards: $290,000.

Estimated Number of Awards: 14-17.

Project Period: Up to 36 months.

Note: The Department is not bound by any estimates in this notice. Funding for the second and third years is subject to the availability of funds and the approval of continuation awards (34 CFR 75.253).

Page Limit: The program narrative is limited to no more than 40 pages. The page limit applies to the narrative section only. All of the application narrative must be included in the narrative section. If the narrative section of an application exceeds the page limitation, the application will not be reviewed. In addition, the following standards are required: (1) Each “page” is 8.5″ x 11″ (on one side only) with one inch margins (top, bottom, and sides); (2) double space (no more than three lines per vertical inch) all text in the application narrative including titles, headings, footnotes, quotations, and captions as well as all text in charts, tables, figures, and graphs; and (3) use a font that is either 12-point or larger or no smaller than 10 pitch (characters per inch).

Project Directors Meeting: Applicants are encouraged to budget for a two-day project directors meeting in Washington, DC.

Applicable Regulations and Statute: (a) Regulations. The Education Department General Administrative Regulations (EDGAR) in 34 CFR parts 74, 75, 77, 79, 80, 81, 82, 85, 86, 97, 98, and 99. (b) Statute. Title V, Part D, Subpart 15, of the Elementary and Secondary Education Act as reauthorized by the No Child Left Behind Act of 2001.

Absolute Priority: Under 34 CFR 75.105(c)(3), the Secretary considers only applications that meet the following absolute priority:

Professional development programs designed for K-12 arts teachers that focus on—

(1) The development, enhancement, or expansion of standards-based arts education programs; or

(2) The integration of arts instruction into other subject area content.

Funded projects must address all aspects of high-quality professional development programs as described under the PROGRAM GOALS section of this notice.

Invitational Priority. The Secretary is particularly interested in applications that meet the following priority.

Invitational Priority. A project that provides for alternative routes to teacher certification or licensure through comprehensive, high-quality training programs in order to place music, drama, dance, and visual arts teachers in the classroom as soon as possible.

Under 34 CFR 75.105(c)(1), the Secretary does not give an application that meets this invitational priority a competitive or absolute preference over other applications.

Selection Criteria: The Secretary will use the following selection criteria to evaluate applications under this competition. The maximum score for all selection criteria is 100 points. The maximum score for each criterion is indicated in parenthesis with the criterion. The criteria are as follows:

(a) Significance (15 points). The Secretary considers the significance of the proposed project. In determining the significance of the proposed project, the Secretary considers the following factors:

(i) The extent to which the proposed project involves the development of promising new strategies that build on, or are alternatives to, existing strategies.

(ii) The importance or magnitude of the results or outcomes likely to be attained by the proposed project, especially improvements in teaching and student achievement.

(b) Quality of the Project Design (15 points). The Secretary considers the quality of the project design of the proposed project. In determining the quality of the project design, the Secretary considers the following factors:

(i) The extent to which the proposed project represents an exceptional approach for meeting the priority established for the competition.

(ii) The quality of the methodology to be employed in the proposed project.

(c) Quality of Project Services (10 points). The Secretary considers the quality of project services to be provided by the proposed project. In determining the quality of the services to be provided by the proposed project, the Secretary considers the quality and sufficiency of strategies for ensuring equal access and treatment for eligible project participants without regard to race, color, national origin, gender, age, or disability. In addition, the Secretary considers the following factors:

(i) The extent to which the services to be provided by the proposed project reflect up-to-date knowledge from research and effective practices.

(ii) The extent to which the professional development services to be provided by the proposed project are of sufficient quality, intensity, and duration to lead to improvements in practice among the recipients of those services.

(d) Quality of Project Personnel (15 points). The Secretary considers the quality of the personnel who will carry out the proposed project. In determining the quality of project personnel, the Secretary considers the extent to which the applicant encourages applications for employment without regard to race, color, national origin, gender, age, or disability. In addition, the Secretary considers the following factors:

(i) The qualifications, including relevant training and experience, of key project personnel.

(ii) The qualifications, including relevant training and experience, of subcontractors.

(e) Adequacy of Resources (15 points). The Secretary considers the adequacy of resources for the proposed project. In determining the adequacy of resources for the proposed project, the Secretary considers the following factors:

(i) The adequacy of support, including facilities, equipment, supplies, and other resources, from the lead applicant organization.

(ii) The extent to which the costs are reasonable in relation to the number of persons to be served and to the anticipated results and benefits.

(f) Quality of the Management Plan (15 points). The Secretary considers the quality of the management plan for the proposed project. In determining the quality of the management plan for the proposed project, the Secretary considers the following factors:

(i) The adequacy of the management plan to achieve the objectives of the proposed project on time and within budget, including clearly defined responsibilities, timelines, and milestones for accomplishing project tasks.

(ii) The adequacy of procedures for ensuring continuous feedback and continuous improvement in the operation of the proposed project.

(iii) The extent to which the time commitments of the project director and other key project personnel are appropriate and adequate to meet the objectives of the proposed project.

(g) Quality of the Project Evaluation (15 points). The Secretary considers the quality of the project evaluation. In determining the quality of the project evaluation, the Secretary considers the following factors:

(i) The extent to which the methods of evaluation include the use of objective performance measures that are clearly related to the intended outcomes of the project and will produce quantitative and qualitative data to the extent possible.

(ii) The extent to which the evaluation will provide guidance about effective strategies suitable for replication or testing in other settings.

Program Goals: This program supports the strengthening of standards-based arts education programs, which are an integral part of elementary and secondary school curricula. It also helps ensure that all students meet challenging State academic content standards and challenging State student academic achievement standards in the arts. Professional development activities that are developed, enhanced, or expanded through this program will assist music, dance, drama, and visual arts teachers in the implementation of arts education standards and will promote the integration of arts instruction into other subject areas.

Arts content and achievement standards have been voluntarily adopted in many States throughout the country. These standards help school districts to establish student performance standards based upon the unique needs of, and desired outcomes for, the students in their communities. The development and implementation of standards-based arts programs enable arts educators to assess and document the effectiveness of teaching strategies and materials in addition to student achievement. However, teachers often need professional development on how to implement art education standards for both arts programs and for programs designed to integrate arts into other subject areas.

High-quality professional development programs supported under this program must be linked to the implementation of arts standards and/or the integration of arts into other content areas and must include—

(1) Strategies for addressing student achievement;

(2) Strategies for meeting the needs of students who come from diverse cultural, linguistic, and socioeconomic backgrounds;

(3) The development of the intellectual and leadership potential of teachers;

(4) Rigorous and sustained activities that result in increased content area knowledge and classroom effectiveness of music, dance, drama, and visual arts teachers;

(5) Use of technological innovations relevant to arts instruction; and

(6) Increased opportunities for teachers to share and discuss new methods or teaching strategies with their peers.

The Department plans to disseminate information regarding promising teaching methods or practices that are developed or enhanced through this program to the arts education community and to the public in general.

Coordination Requirement: Under section 5551(f)(1) of the ESEA, the Secretary requires that each entity funded under this program coordinate, to the extent practicable, each project or program carried out with such assistance with appropriate activities of public or private cultural agencies, institutions, and organizations, including museums, arts education associations, libraries, and theaters.

Supplement, Not Supplant, Requirement: Under section 5551(f)(2) of the ESEA, the Secretary requires that assistance provided under this program be used only to supplement, and not to supplant, other assistance or funds made available from non-Federal sources for the activities assisted under this subpart.

Waiver of Proposed Rulemaking: In accordance with the Administrative Procedure Act (5 U.S.C. 553), it is the practice of the Secretary to offer interested parties the opportunity to comment on proposed rules. Section 437(d)(2) of the General Education Provisions Act (GEPA), however, exempts from rulemaking requirements rules where the Secretary determines that such requirements will cause extreme hardship to the intended beneficiaries of the program affected by the regulations. The requirements of rulemaking would cause extreme hardship in this case because there is insufficient time to publish rules for notice and comment and to conduct a timely competition for grant awards. The Secretary, in accordance with section 437(d)(2) of GEPA, to ensure timely and high-quality awards, has decided to forgo public comment on the rules in this notice. These rules will apply only to the FY 2003 grant competition.

For Applications Contact: Education Publication Center (ED Pubs), P.O. Box 1398, Jessup, MD 20794-1398. Telephone (toll free): 1-877-433-7827. FAX: (301) 470-1244. If you use a telecommunications device for the deaf (TDD), you may call (toll free): 1-877-576-7734. You may also contact ED Pubs at its Web site: http://www.ed.gov/pbs/edpubs.html. Or you may contact ED Pubs at its e-mail address: edpubs@inet.ed.gov.

If you request an application from ED Pubs, be sure to identify this competition as follows: CFDA number 84.351C.

FOR FURTHER INFORMATION CONTACT: Lynyetta Johnson, U.S. Department of Education, 400 Maryland Avenue, SW., room 3E206 FB-6, Washington, DC 20202-6140. Telephone: (202) 269-1990 or via Internet: lynyetta.johnson@ed.gov.

If you use a telecommunications device for the deaf (TDD), you may call the Federal Information Relay Service (FIRS) at 1-800-877-8339.

Individuals with disabilities may obtain this document in an alternative format (e.g., Braille, large print, audiotape, or computer diskette) on request to the contact person listed under FOR APPLICATIONS AND FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498, or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 7271.

Dated: May 12, 2003.
Nina Rees,
Deputy Under Secretary for Innovation and Improvement.

[FR Doc. 03-12284 Filed 5-15-03; 8:45 am]

BILLING CODE 4000-01-P